DEPARTMENT OF ENERGY

Federal Energy Regulatory Commission

[Project Nos. 2897-003, 2931-002, 2932-003, 2941-002 and 2942-005]

S. D. Warren Company; Notice Granting Late Interventions

April 14, 2003.

On April 23, 1999, the Commission issued a “Notice of Application Accepted for Filing and Soliciting Motions to Intervene and Protests” for the Saccarappa, Gambo, Mallison Falls, Little Falls and Dundee Project Nos. 2897-003, 2931-002, 2932-003, 2941-002 and 2942-005, located on the Presumpscot River in Cumberland County, Maine. The notice established June 21, 1999, as the deadline for filing motions to intervene in the proceeding.

On July 6, 1999, September 7, 1999, September 13, 1999, September 22, 1999 and September 29, 1999, motions to intervene were filed by the United States Environmental Protection Agency, Robert P. Hennick, The Sebago Lake Anglers Association, American Rivers, Inc. and Allan Desjardin. Granting the late motions to intervene will not unduly delay or disrupt the proceeding or prejudice other parties to it. Therefore, pursuant to rule 214,¹ the late motions to intervene filed in this proceeding by the United States Environmental Protection Agency, Robert P. Hennick, the Sebago Lake Anglers Association, American Rivers and Allan Desjardin are granted, subject to the Commission's rules and regulations.

¹ 18 CFR 385.214 (2002).

Magalie R. Salas,
Secretary.

[FR Doc. 03-9560 Filed 4-17-03; 8:45 am]

BILLING CODE 6717-01-P